DEPARTMENT OF AGRICULTURE

USDA Equity Commission

AGENCY: USDA.

ACTION: Notice of public and virtual meeting.

SUMMARY: Notice is hereby given, pursuant to the provisions of the rules and regulations of the United States Department of Agriculture (USDA) and the Federal Advisory Committee Act (FACA), that a public meeting of the USDA Equity Commission (EC or Commission), Subcommittee for Agriculture and the Rural Community Economic Development Subcommittee will convene to continue its work reviewing USDA programs, services, and policies for the purpose of making recommendations for how the Department can improve access and advance equity. The Commission and Subcommittee are authorized under section 1006(b)(3) of the American Rescue Plan Act of 2021, Public Law 117-2 (the Act) and operates in compliance with the Federal Advisory Committee Act, as amended, 5 U.S.C. app. 2.

DATES: The EC meeting will be held on Wednesday, September 21 and Thursday, September 22, 2022, from 10 a.m. EST to 5:30 p.m. EST each day.

Meeting Access

The public can participate via a zoom meeting link. Access information will be provided to registered individuals via email. Detailed information can be found at: https://www.usda.gov/equity-commission.

FOR FURTHER INFORMATION CONTACT: Cecilia Hernandez, Designated Federal Officer, USDA Equity Commission, Office of the Deputy Secretary, 1400 Independence Avenue SW, Room 6006-S, Washington, DC 20250-0235; Phone: (202) 913-5907; Email: Equitycommission@usda.gov. Individuals who use telecommunication devices for the deaf (TDD) may call the FCC Telecommunications Relay Service (TRS) at 7-1-1 between 8 a.m. and 8 p.m., eastern standard time, Monday through Friday.

SUPPLEMENTARY INFORMATION: On January 20, 2021, President Biden signed an Executive Order On Advancing Racial Equity and Support for Underserved Communities Through the Federal Government and committed to creating the USDA Equity Commission as part of his rural agenda and commitment to closing the racial wealth gap and addressing longstanding inequities in agriculture. Section 1006 of the American Rescue Plan directed USDA to create the Equity Commission and provided funds sufficient to ensure the Commission is well staffed and positioned to deliver on its charge.

The USDA Equity Commission will advise the Secretary of Agriculture and provide USDA with an analysis of how its programs, policies, systems, structures, and practices contribute to barriers to inclusion or access, systemic discrimination, or exacerbate or perpetuate racial, economic, health and social disparities and recommendations for action. The Agriculture Subcommittee reports to the Equity Commission and provides recommendations on issues of concern related to agriculture. The Rural Community Economic Development Subcommittee, (RCED), will also report to the Equity Commission and will focus on issues related to rural community prosperity. The Equity Commission will deliver an interim report and provide actionable recommendations by the fall of 2022. A final report will be completed by the summer of 2023.

Meeting Agenda: The agenda items may include, but are not limited to, welcome and introductions; administrative matters; introduction of the Rural Community Economic Development Subcommittee; and deliberations and voting of recommendations to be included in the EC interim report. Please check the USDA Equity Commission website (https://www.usda.gov/equity-commission) for an agenda 24-48 hours prior to September 21st.

Register for the Meeting: The public is asked to pre-register for the meeting by visiting https://www.usda.gov/equity-commission. Your pre-registration must state: your name; organization or interest represented; if you are planning to give oral comments; and if you require special accommodations. USDA will also accept day-of registrations.

Oral Comments: The Commission is providing the public an opportunity to provide oral comments and will accommodate as many individuals and organizations as time permits. Persons or organizations wishing to make oral comments must pre-register by 11:59 p.m. ET, September 9, 2022, and may only register for one speaking slot. Participants who wish to make oral comments must also be available to attend a tech-check the day before the meeting. Instructions for registering and participating in the meeting can be found on https://www.usda.gov/equity-commission.

Written Comments: Written public comments for consideration at the meeting will be accepted on or before 11:59 p.m. ET, September 9th. Comments submitted after this date will be provided to USDA, but the Commission may not have adequate time to consider those comments prior to the meeting. The USDA Equity Commission strongly prefers comments be submitted electronically. However, written comments may also be submitted (i.e., postmarked) via mail to the person listed in the FOR FURTHER INFORMATION CONTACT section by or before the deadline. Written comments will be accepted up to 15 days after the meeting.

Availability of Materials for the Meeting: All written public comments received by October 7, 2022, will be compiled into a file and available for member review and be included in the meeting minutes. Duplicate comments from multiple individuals will appear as one comment, with a notation that multiple copies of the comment were received. Please visit https://www.usda.gov/equity-commission to view the agenda and/or minutes from this meeting.

Meeting Accommodations: USDA is committed to making its electronic and information technologies accessible to individuals with disabilities by meeting or exceeding the requirements of section 508 of the Rehabilitation Act (29 U.S.C. 794d), as amended. If you need reasonable accommodations, please make requests in advance for reasonable accommodations through the meeting registration link on https://www.usda.gov/equity-commission. Determinations for reasonable accommodations will be made on a case-by-case basis.

Dated: August 23, 2022.
Cikena Reid,
USDA Committee Management Officer.

[FR Doc. 2022-18483 Filed 8-26-22; 8:45 am]

BILLING CODE 3410-01-P